ENVIRONMENTAL PROTECTION AGENCY

[EPA-HQ-OW-2014-0359; FRL-9979-01-OW]

Proposed Information Collection Request; Comment Request; Information Collection Request for the Underground Injection Control Program

AGENCY: Environmental Protection Agency (EPA).

ACTION: Notice.

SUMMARY: The Environmental Protection Agency (EPA) is planning to submit an information collection request (ICR), “Information Collection Request for the Underground Injection Control Program” (EPA ICR No. 0370.26, OMB Control No. 2040-0042) to the Office of Management and Budget (OMB) for review and approval in accordance with the Paperwork Reduction Act (PRA; 44 U.S.C. 3501 et seq.). Before doing so, the EPA is soliciting public comments on specific aspects of the proposed information collection as described in the SUPPLEMENTARY INFORMATION section. This is a proposed extension of the ICR, which is currently approved through December 31, 2018. An Agency may not conduct or sponsor and a person is not required to respond to a collection of information unless it displays a currently valid OMB control number.

DATES: Comments must be submitted on or before August 6, 2018.

ADDRESSES: Submit your comments, referencing Docket ID No. EPA-HQ-OW-2014-0359 online using www.regulations.gov (our preferred method), by email to OW-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Kyle Carey, Office of Ground Water and Drinking Water/Drinking Water Protection Division, 4606M, Environmental Protection Agency, 1200 Pennsylvania Ave. NW, Washington, DC 20460; telephone number: (202) 564-2322; fax number: (202) 564-3756; email address: carey.kyle@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: The EPA developed the Underground Injection Control (UIC) Program, under the authority of the Safe Drinking Water Act, to establish a federal-state regulatory system to protect underground sources of drinking water (USDWs) from injection fluids and injection-related activities. Injected fluids include hazardous waste, oil field brines or produced water, mineral processing fluids, various types of industrial fluids, automotive, sanitary and other wastes, and carbon dioxide injected for geologic sequestration. Owners or operators of injection wells must obtain permits, conduct environmental monitoring, maintain records, and report results to the EPA or the state agency (if the state has UIC primary enforcement responsibility (primacy)). States must report to the EPA on permittee compliance and related information. This required information is reported using standardized forms and annual reports. The governing regulations are codified in the Code of Federal Regulations (CFR) at 40 CFR parts 144 through 148. Reporting data are used by UIC authorities to ensure the protection of USDWs.

Form Numbers: 7520-1, 7520-2A, 7520-2B, 7520-3, 7520-4, 7520-6, 7520-7, 7520-8, 7520-9, 7520-10, 7520-11, 7520-12, 7520-14, 7520-16, and 7520-17.

Respondents/affected entities: Owners or operators of underground injection wells and state UIC primacy agencies.

Respondent's obligation to respond: mandatory (40 CFR parts 144 through 148).

Estimated number of respondents: 40,187 (total).

Frequency of response: annual, semi-annual, and quarterly.

Total estimated burden: 1,290,586 hours (per year). Burden is defined at 5 CFR 1320.03(b).

Total estimated cost: $226,276,957 (per year), includes $167,334,210 annualized capital or operation and maintenance costs.

Changes in Estimates: There is a decrease of 423,460 hours in the total estimated respondent burden compared with the ICR currently approved by OMB. This decrease is due to changes in the injection well inventory, primarily, a significant reduction in the number of Class II and Class VI permit applications expected to be prepared and reviewed; a decrease in the number of Class V inventory forms that are anticipated to be submitted; and a decrease in the number of Class I and Class VI well operators that the EPA estimates will be submitting information. Furthermore, the EPA has revised the operator reporting forms, which has resulted in additional burden reductions for operators of all well classes. These decreases are partially offset by an increase in burden due to changes in the number of Class III permit applications.

Dated: May 25, 2018.
Peter Grevatt,
Director, Office of Ground Water and Drinking Water.

[FR Doc. 2018-12073 Filed 6-5-18; 8:45 am]

BILLING CODE 6560-50-P